DEPARTMENT OF AGRICULTURE

Animal and Plant Health Inspection Service

[Docket No. APHIS-2010-0092]

Notice of Revision and Request for Extension of Approval of an Information Collection; Johne's Disease

AGENCY: Animal and Plant Health Inspection Service, USDA.

ACTION: Revision and extension of approval of an information collection; comment request.

SUMMARY: In accordance with the Paperwork Reduction Act of 1995, this notice announces the Animal and Plant Health Inspection Service's intention to revise an information collection associated with the interstate movement of animals affected with Johne's disease and to request extension of approval of the information collection to protect the U.S. animal population.

DATES: We will consider all comments that we receive on or before January 18, 2011.

ADDRESSES: You may submit comments by either of the following methods:

• Federal eRulemaking Portal: Go to http://www.regulations.gov/fdmspublic/component/main?main=DocketDetail&d=APHIS-2010-0092 to submit or view comments and to view supporting and related materials available electronically.

• Postal Mail/Commercial Delivery: Please send one copy of your comment to Docket No. APHIS-2010-0092, Regulatory Analysis and Development, PPD, APHIS, Station 3A-03.8, 4700 River Road Unit 118, Riverdale, MD 20737-1238. Please state that your comment refers to Docket No. APHIS-2010-0092.

Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: For information on the interstate movement of animals affected with Johne's Disease, contact Dr. Michael Carter, Assistant Director, Ruminant Health Programs, VS, APHIS, 4700 River Road Unit 46, Riverdale, MD 20737; (301) 734-4914. For copies of more detailed information on the information collection, contact Mrs. Celeste Sickles, APHIS' Information Collection Coordinator, at (301) 851-2908.

SUPPLEMENTARY INFORMATION:

Title: Johne's Disease.

OMB Number: 0579-0338.

Type of Request: Revision and extension of approval of an information collection.

Abstract: Under the Animal Health Protection Act (7 U.S.C. 8301 et seq.), the Animal and Plant Health Inspection Service (APHIS) is authorized, among other things, to prevent the introduction and interstate spread of serious diseases and pests of livestock and for eradicating such diseases from the United States when feasible. In support of this mission, Veterinary Services (VS), APHIS, prohibits or restricts the interstate movement of livestock that have, or have been exposed to, certain diseases.

Johne's disease, also known as paratuberculosis, is caused by Mycobacterium avium subspecies paratuberculosis and primarily affects cattle, sheep, goats, and other domestic, exotic, and wild ruminants. The disease is a chronic and contagious enteritis that results in progressive wasting and eventual death. It is nearly always introduced into a healthy herd by an infected animal that is not showing symptoms of the disease.

The regulations in 9 CFR, chapter I, subchapter C, govern the interstate movement of animals to prevent the dissemination of livestock and poultry diseases in the United States. Subchapter C, part 71, contains general provisions for the interstate movement of animals, poultry, and their products, while part 80 pertains specifically to the interstate movement of domestic animals that are positive to an official test for Johne's disease.

These regulations provide that cattle, sheep, goats, and other domestic animals that are positive to an official test for Johne's disease may generally be moved interstate only to a recognized slaughtering establishment or to an approved livestock facility for sale to such an establishment. Supplementing the regulations are standards outlined in the document, “Uniform Program Standards for the Voluntary Bovine Johne's Disease Control Program” (VBJDCP). The voluntary, cooperative program is administered by the States and supported by industry and APHIS.

As part of the Agency's efforts to protect the U.S. animal population and prevent the interstate spread of Johne's disease, VS uses certain information collection activities, including Johne's Disease Control Program Annual Reports (VS Form 4-29), quarterly reports, Johne's Vaccination Records (VS Forms 4-27 and 4-27A), VBJDCP test records (VS Forms 4-30 and 4-30A), Herd Enrollment forms (VS Form 4-28), Risk Assessment and Herd Management for Dairy Cattle forms (VS Form 4-32), Risk Assessment and Herd Management for Beef Cattle forms (VS Form 4-35), owner-shipper statements (VS Form 1-27), and official eartags.

We are asking the Office of Management and Budget (OMB) to approve our use of these information collection activities for an additional 3 years.

This information collection includes information collection requirements currently approved by OMB control numbers 0579-0148, “Johne's Disease in Domestic Animals; Interstate Movement,” and 0579-0338, “Voluntary Bovine Johne's Disease Control Program.” After OMB approves and combines the burden for both collections under a single collection titled “Johne's Disease” (0579-0338), the Department will retire number 0579-0148.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.57767189 hours per response.

Respondents: State animal health officials; State personnel performing VBJDCP activities; herd owners; producers; livestock shippers; Johne's-certified veterinarians; and accredited veterinarians.

Estimated annual number of respondents: 9,125.

Estimated annual number of responses per respondent: 7.244387.

Estimated annual number of responses: 66,105.

Estimated total annual burden on respondents: 38,187 hours. (Due to averaging, the total annual burden hours may not equal the product of the annual number of responses multiplied by the reporting burden per response.)

All responses to this notice will be summarized and included in the request for OMB approval. All comments will also become a matter of public record.

Done in Washington, DC, November 15, 2010.
Kevin Shea,
Acting Administrator, Animal and Plant Health Inspection Service.

[FR Doc. 2010-29254 Filed 11-18-10; 8:45 am]

BILLING CODE 3410-34-P